ENVIRONMENTAL PROTECTION AGENCY

40 CFR Part 82

[FRL-6981-9]

Protection of Stratospheric Ozone: Notice of Data Availability; New Information Concerning SNAP Program Proposal on HCFC Use in Foams

AGENCY: Environmental Protection Agency (EPA).

ACTION: Notice of data availability and request for comment.

SUMMARY: The Environmental Protection Agency (EPA) is making available to the public information related to a July 11, 2000, proposal under the Significant New Alternatives Policy (SNAP) Program under section 612 of the Clean Air Act. The SNAP program reviews alternatives to Class I and Class II ozone depleting substances and approves use of alternatives which reduce the overall risk to public health and the environment. The July 11, 2000 proposal concerned use of hydrochlorfluorocarbons (HCFCs) in foam blowing applications. The official comment period for the proposal ended on September 11, 2000. However, EPA received information after September 11, 2000 from outside parties through letters, meetings and the Agency's own efforts to obtain information to address public comments. Today, the Agency is making new information obtained after the close of the comment period available for public review and comment. The information being made available includes: sector description and size, alternatives currently used in each sector and technically viable alternatives. Because we plan to use this information in the future when developing a final rule, EPA wants to provide the public with an opportunity to comment on it.

Readers should note that we will only consider comments about the information referenced in this notice and are not soliciting comments on any other topic. In particular, we are not reopening the comment period for the July 11, 2000, proposed rule through this Notice of Data Availability. Neither are we soliciting comments on the HCFC production phaseout established in EPA's December 10, 1993 rulemaking (58 FR 65018).

DATES: We will accept comments on the data through June 22, 2001.

ADDRESSES: You may submit comments to Docket A-2000-18, U.S. Environmental Protection Agency, Office of Air and Radiation (OAR) Docket and Information Center (6102), 401 M Street, SW., Room M-1500, Washington, DC 20460, phone: (202) 260-7548; fax (202) 260-4400. You may submit comments electronically by sending electronic mail through the Internet to: A-and-R-Docket@epamail.epa.gov. Also identify your comments in electronic format with Docket No. A-2000-18. See the SUPPLEMENTARY INFORMATION section of this notice for further information about filing comments. The docket may be inspected between 8 a.m. and 5:30 p.m. on weekdays. As provided in 40 CFR part 2, a reasonable fee may be charged for photocopying. To expedite review, a second copy of the comments should be sent to Ms. Anhar Karimjee at the address listed below under FOR FURTHER INFORMATION CONTACT. Information designated as Confidential Business Information (CBI) under 40 CFR part 2, subpart 2, must be marked confidential and sent directly to Ms. Anhar Karimjee. However, the Agency is requesting that all respondents submit a non-confidential version of their comments to the docket as well.

FOR FURTHER INFORMATION CONTACT: Questions concerning today's action should be addressed to Ms. Anhar Karimjee at phone: (202) 564-2683, fax: (202) 565-2095, or e-mail: karimjee.anhar@epa.gov, U.S. Environmental Protection Agency, 1200 Pennsylvania Avenue, NW., Mailcode 6205J, Washington, DC 20004. Overnight or courier deliveries should be sent to the office location at 501 3rd Street, NW., Washington, DC 20001.

SUPPLEMENTARY INFORMATION:

Outline

1. What is today's action?

2. What information is EPA making available for review and comment?

3. Where can I get the information?

4. How is this action related to the July 11, 2000 proposed rule?

5. What is EPA not taking comment on?

6. What supporting documentation do I need to include in my comments?

1. What Is Today's Action?

Today, we are making information available on foam blowing applications that could be potentially affected by a Significant New Alternatives Policy (SNAP) action under section 612 of the Clean Air Act. The proposed action, published in the Federal Register on July 11, 2000 (65 FR 42653), addressed use of HCFCs in all foam end-uses. EPA proposed 3 actions: (1) Listing HCFC-141b as unacceptable in all foam end-uses, with existing users grandfathered until 2005; (2) listing HCFC-22 and HCFC-142b as unacceptable in all foam end-uses, with existing users grandfathered until 2005; and (3) listing HCFC-124 as unacceptable in all foam end-uses (65 FR 42653). The Agency allowed 60 days for public comment and received 45 responses to the proposal by the close of the comment period (September 11, 2000). The Agency received comments from chemical manufacturers, appliance manufacturers, spray foam manufacturers, associations, and others. Copies can be obtained through the Air Docket by referencing A-2000-18, IV-D-1 through 45 (see ADDRESSES section above for docket contact info).

Since the comment period closed, EPA has acquired additional information pertaining to the availability and technical viability of alternatives and the market size and economic impact of the proposal on various industries. This information was obtained through meetings held at the request of industry representatives, letters sent through congressional representatives, letters sent directly to the Agency, and through EPA's own efforts to obtain additional information in order to fully address comments received during the comment period. The purpose of making data available for comment is to ensure that information provided to the Agency since September 11, 2000 (the end of the comment period) is accurate and complete. The information provided will be used to help respond to comments and finalize the July 11, 2000 proposal.

2. What Information Is EPA Making Available for Review and Comment?

Since the comment period ended on September 11, 2000, EPA received 18 letters in response to the proposal mentioned above. These letters can be obtained through the Air Docket, A-2000-18 reference number IV-D-46 through 64. Many of these letters express concern over economic impacts of the proposal including potential small business impacts. The letters also address technical viability and availability of alternatives. Notes from meetings requested by industry representatives are also available in the Air Docket. In general, the purpose of these meetings was for industry representatives to go over comments already formally submitted to EPA and offer the Agency an opportunity to ask clarifying questions. A summary of these meetings along with any new information provided to the Agency during these meetings is available through the Air Docket, A-2000-18 reference number IV-E-1 through 6. The following items in the docket include technical information such as industry overviews and surveys: Air Docket, A-2000-18 reference number IV-D-55, IV-D-61, IV-D-76, IV-E-4, IV-E-6, 7, 8, 9.

EPA obtained additional information through attending public conferences and literature reviews. Although this information is publicly available, the Agency is including it in this notice because some of the information may be used when the Agency takes final action on the proposal. These documents can be obtained through the Air Docket, A-2000-18 reference number IV-D-65 through 75.

Some comments received on the July 11, 2000 proposal suggested that EPA developed the proposal without sufficient up-to-date information on certain sectors of the foam industry. Comments also indicated that the Agency should have evaluated the viability of alternatives in each foam end-use application and the potential small business impacts of the proposal. In an effort to address these concerns, the Agency hired a consultant to gather additional information on certain sectors and is making this information available to the public for review and comment prior to taking final action on the July 11 proposal. The Agency is seeking comments on the accuracy and thoroughness of the following reports:

—Synopsis of comments received from the extruded polystyrene industry

—Overview of challenges facing the polyurethane spray foam industry and other systems house based applications

(a) Comments from the polyurethane systems houses (non-spray foam)

(b) Comments from the polyurethane spray foam systems houses and contractors

EPA has also summarized information available on all foam sectors currently using HCFCs. This information is presented in table format and is available through Air Docket A-2000-18 reference number IV-D-79. The table consolidates information obtained in response to the proposal along with information collected during the development of the documents outlined above. EPA is soliciting comment on the accuracy of the information presented in the table. In addition to obtaining comments on the accuracy of the information provided, the Agency would like to know if there any other foam applications that use HCFC blowing agents but are not listed in the table.

3. Where Can I Get the Information?

All of the information can be obtained through the Air Docket (see ADDRESSES section above for docket contact info). The reports covering the polystyrene, spray, sandwich panels and other foam applications can be obtained through the docket. Reference numbers are as follows:

—Synopsis of comments received from the extruded polystyrene industry: Air Docket A-2000-18 reference number IV-D-77

—Overview of challenges facing the polyurethane spray foam industry and other systems house based applications: Air Docket A-2000-18 reference number IV-D-78

(a) Comments from the polyurethane systems houses (non-spray foam): Air Docket A-2000-18 reference number IV-D-78a

(b) Comments from the polyurethane spray foam systems houses and contractors: Air Docket A-2000-18 reference number IV-D-78b

4. How Is This Action Related to the July 11, 2000 Proposed Rule?

We are soliciting comment to ensure that we use the best information available when making final decisions regarding the July 11, 2000 proposal. Because the information provided in this Federal Register document will be used by EPA to addresses comments received on the proposal, the Agency is providing the public with an opportunity to comment on the quality of the available information. This information will be used to ensure that issues relating to the technical viability of alternatives and industry impacts are fully considered by EPA prior to moving forward with a rulemaking in the foams sector.

5. What Is EPA Not Taking Comment On?

EPA is only accepting comments on accuracy and completeness of the information outlined in today's Federal Register Notice. EPA is not accepting comment on the following:

—HCFC foams proposal published on July 11, 2000 (65 FR 42653)

—HCFC production phaseout established in EPA's December 10, 1993 rulemaking (58 FR 65018)

—Allowance System for Controlling HCFC Production, Import and Export (draft proposal that may be published during comment period on this NODA)

6. What Supporting Documentation Do I Need To Include in My Comments?

Please provide any published studies or raw data supporting your position.

Dated: May 4, 2001.
Paul Stolpman,
Director, Office of Atmospheric Programs, Office of Air and Radiation.

[FR Doc. 01-12896 Filed 5-22-01; 8:45 am]

BILLING CODE 6560-50-U